DEPARTMENT OF STATE

[Public Notice: 8742]

Renewal of Defense Trade Advisory Group Charter

AGENCY: Department of State.

ACTION: Notice.

SUMMARY: The Department of State announces the renewal of the Charter for the Defense Trade Advisory Group (DTAG). The DTAG advises the Department on its support for and regulation of defense trade to help ensure the foreign policy and national security of the United States continue to be protected and advanced, while helping to reduce unnecessary impediments to legitimate exports in order to support the defense requirements of U.S. friends and allies. It is the only Department of State advisory committee that addresses defense trade related topics. The DTAG will remain in existence for two years after the filing date of the Charter unless terminated or renewed sooner. The DTAG is authorized by 22 U.S.C. §§ 2651a and 2656 and the Federal Advisory Committee Act, 5 U.S.C. Appendix.

For more information, contact Lisa V. Aguirre, Alternate Designated Federal Officer, Defense Trade Advisory Group, Department of State, Washington, DC 20520, telephone: (202) 663-2830.

Date: May 14, 2014.
Lisa V. Aguirre,
Alternate Designated Federal Officer, Defense Trade Advisory Group, U.S. Department of State.

[FR Doc. 2014-11776 Filed 5-20-14; 8:45 am]

BILLING CODE 4710-25-P